DEPARTMENT OF HEALTH AND HUMAN SERVICES

Centers for Disease Control and Prevention

Board of Scientific Counselors, National Center for Health Statistics

AGENCY: Centers for Disease Control and Prevention (CDC), Department of Health and Human Services (HHS).

ACTION: Notice of meeting.

SUMMARY: In accordance with the Federal Advisory Committee Act, the Centers for Disease Control and Prevention (CDC) announces the following meeting for the Board of Scientific Counselors, National Center for Health Statistics (BSC, NCHS). This meeting is open to the public. Time will be available for public comment.

DATES: The meeting will be held on February 15, 2023, from 11:00 a.m. to 4:30 p.m., EST.

ADDRESSES: Instructions to access the live meeting broadcast will be posted here: https://www.cdc.gov/nchs/about/bsc/bsc_meetings.htm.

FOR FURTHER INFORMATION CONTACT: Rebecca Hines, M.H.S., Designated Federal Officer, Board of Scientific Counselors, National Center for Health Statistics, Centers for Disease Control and Prevention, 3311 Toledo Road, Mailstop P-08, Hyattsville, Maryland 20782; Telephone (301) 458-4715; Email: RSHines@cdc.gov.

SUPPLEMENTARY INFORMATION:

Purpose: The Board of Scientific Counselors, National Center for Health Statistics (BSC, NCHS) is charged with providing advice and making recommendations to the Secretary, Department of Health and Human Services; the Director, Centers for Disease Control and Prevention (CDC); and the Director, National Center for Health Statistics, regarding the scientific and technical program goals and objectives, strategies, and priorities of NCHS.

Matters to be Considered: The meeting agenda will include a Center update from the NCHS Director; an update on CDC's Data Modernization Initiative; program updates from NCHS Division Directors; and time for Board discussion regarding current issues and topics. The Board will reserve time for public comment at the end of the day. Meeting times and agenda topics are subject to change as priorities dictate.

Meeting Information: Please visit the BSC, NCHS website for details: https://www.cdc.gov/nchs/about/bsc/bsc_meetings.htm. Further information and the meeting agenda will be available on the BSC website, including any agenda updates and the instructions for accessing the live meeting broadcast.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-00407 Filed 1-10-23; 8:45 am]

BILLING CODE 4163-19-P